POSTAL REGULATORY COMMISSION

[Docket No. MC2013-60; Order No. 1838]

New Postal Product

AGENCY: Postal Regulatory Commission.

ACTION: Notice.

SUMMARY: The Commission is noticing a recently-filed Postal Service request to add Private Address Forwarding service to the market dominant product list. This notice informs the public of the filing, invites public comment, and takes other administrative steps.

DATES: Comments are due: October 16, 2013. Reply Comments are due: November 13, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION: Notice of filing. Pursuant to 39 U.S.C. 3642 and 39 CFR 3020.50 et seq., a mail user (Petitioner) has filed a request to add a new product, Private Address Forwarding (PAF) service, to the market dominant product list within the Mail Classification Schedule (MCS).¹ The Request has been assigned Docket No. MC2013-60.

¹ Request to the Postal Regulatory Commission under 39 U.S.C. 3642 & 39 CFR 3020.50 to add Private Address Forwarding to the Mail Classification Schedule, September 18, 2013 (Request). The Petitioner proposes to add the product as a Special Service. Id. at 1.

Product description. The proposed service would permit a customer to apply to the Postal Service for a unique, random, nine-character, alphanumeric identifier, known as a PAF ID.² Request at 1-2. The Postal Service would maintain a database linking the PAF ID to the identity and address of the customer who purchased the service. Id. at 2. The proposed service would permit a customer to have mail that is addressed to a PAF ID delivered to a physical address that is specified by the customer. Id. at 1. This would allow a customer with a PAF ID to receive mail from third parties without disclosing the customer's identity or physical address. Id. at 4. The third-party sender would address the mail to the PAF ID. Id. at 1. On receipt of the mail, the Postal Service would look up the physical address specified by the owner and forward the mail to that address. Id. Customers with PAF IDs could, by visiting a post office and presenting identification, request that mail addressed to a PAF ID that they control be forwarded to a new destination address.³ Petitioner also provides suggested rules regarding conditions for obtaining and using PAF service, for obtaining multiple PAF IDs, on disclosure of customer identity, on the cost of shipping to PAF customers, as well as a suggested pricing structure for the service. Id. at 2-4.

² Petitioner provides the following as an example of a PAF ID: “13JS-00EG-C.” Id. at 2.

³ Petitioner also proposes that the Postal Service, on accepting the customer's initial PAF ID application, issue a user name and password. Id. at 2. The user name and password would permit the customer to manage their PAF ID account online, including permitting the customer to designate a new destination address.

Product classification. Petitioner believes that because PAF service would add a new address format option and because the Postal Service would maintain a centralized, private database of PAF ID destination addresses, the Postal Service would have a “de facto monopoly” for this product, and the product would therefore be appropriately classified as a market dominant product of general applicability. Id. at 4. However, Petitioner defers to the Postal Service and the Commission regarding the appropriate classification of PAF service. Id.

Proceedings. Section 3642 allows for users of the mail to request that the Commission change the list of market dominant products under section 3621 or the list of competitive products under section 3631 by adding new products to either list. 39 U.S.C. 3642(a). This is the first Request made by a user of the mails pursuant to section 3642 and the Commission's rules, 39 CFR 3020 subpart B.

The Commission establishes Docket No. MC2013-60 to consider the instant Request. Pursuant to 39 CFR 3020.54, the Postal Service has 28 days from the date of the filing of the Request to provide its preliminary views regarding the Request. Accordingly, its preliminary views are due no later than October 16, 2013.

Interested persons may submit comments on the merits of the Request, including whether it is consistent with the policies of 39 U.S.C. 3642 and 39 CFR 3020.50 et seq. no later than October 16, 2013.⁴

⁴ The Commission's rules do not specify the length of the public comment period in proceedings brought pursuant to 39 CFR 3020.50 et. seq. Petitioner asks that the public comment period extend to one month after the Postal Service provides its preliminary views so to “permit the public to consider both this proposal and the [Postal Service's] response. . . .” Request at 5.

Interested persons, including the Postal Service, may submit reply comments no later than November 13, 2013. The public portions of these filings can be accessed via the Commission's Web site (http://www.prc.gov). Following receipt of comments, the Commission will take action pursuant to 39 CFR 3020.55.

The Commission appoints James Waclawski to represent the interests of the general public in this proceeding.

It is ordered:

1. The Commission establishes Docket No. MC2013-60 to consider the issues raised by the request to add Private Address Forwarding to the Mail Classification Schedule.

2. The Commission appoints James Waclawski to represent the interests of the general public in this proceeding.

3. The Postal Service shall submit its preliminary views no later than October 16, 2013.

4. Interested persons may submit comments no later than October 16, 2013.

5. Reply comments may be submitted no later than November 13, 2013.

6. The Secretary shall arrange for the publication of this order in the Federal Register.

By the Commission.
Ruth Ann Abrams,
Acting Secretary.

[FR Doc. 2013-23605 Filed 9-26-13; 8:45 am]

BILLING CODE 7710-FW-P